DEPARTMENT OF THE INTERIOR

Fish and Wildlife Service

Notice of Availability of the Draft Comprehensive Conservation Plan and Environmental Assessment for Arapaho National Wildlife Refuge

AGENCY: Fish and Wildlife Service, Department of the Interior.

ACTION: Notice of availability.

SUMMARY: The U.S. Fish and Wildlife Service (Service) announces that the Draft Comprehensive Conservation Plan (CCP) and Environmental Assessment (EA) is available for the Arapaho National Wildlife Refuge. We prepared this CCP pursuant to the National Wildlife Refuge System Administration Act of 1966, as amended by the National Wildlife Refuge System Improvement Act of 1997, and the National Environmental Policy Act of 1969, and in it we describe how the Service intends to manage Arapaho National Wildlife Refuge over the next 15 years.

DATES: If you wish to provide written comments (in hard copy or electronic format), send them to Ann Timberman, Refuge Manager or to Bernardo Garza, Planning Team Leader, to the postal or electronic mail addresses listed below. Please keep in mind that we must receive your comments on or before September 12, 2003.

ADDRESSES: To provide written comments or to obtain a copy of the Draft CCP/EA please write to Ann Timberman, Refuge Manager, Arapaho NWR, at P.O. Box 457, 953 Jackson County Road #32, Walden, Colorado 80480-0457, or via electronic mail at Ann_Timberman@fws.gov. You may also provide comments or obtain a copy of the Draft CCP/EA from Bernardo Garza, Planning Team Leader, U.S. Fish and Wildlife Service, Division of Refuge Planning, P.O. Box 25486, Denver Federal Center, Denver, Colorado 80225-0486 or via electronic mail at Bernardo_Garza@fws.gov. Additionally, copies of the CCP/EA may be downloaded at the following website address: http://mountain-prairie.fws.gov/planning/. The Service encourages you to attend and provide your comments at the public meetings to be held in Walden and Fort Collins and/or Denver during September 2003. For precise information on the location, date and time of the meetings please contact Arapaho NWR at (970) 723-8202.

FOR FURTHER INFORMATION CONTACT: Ann Timberman, (970) 723-8202 ext. 3 or Bernardo Garza, (303) 236-4377.

SUPPLEMENTARY INFORMATION: The National Wildlife Refuge System Administration Act of 1966, as amended by the National Wildlife Refuge System Improvement Act of 1997 (16 U.S.C. 668dd-668ee et seq.) requires a CCP. The purpose in developing CCPs is to provide refuge managers with a 15-year strategy for achieving refuge purposes and contributing toward the mission of the National Wildlife Refuge System, consistent with sound principles of fish and wildlife science, conservation, legal mandates, and Service policies. In addition to outlining broad management direction on conserving wildlife and their habitats, the CCPs identify wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

Arapaho NWR, located in the center of Jackson County (north-central Colorado) is 23,243 acres in size. The Colorado Wildlife Commission approved the establishment of Arapaho NWR on June 5, 1967; the Migratory Bird Conservation Commission approved acquisition of lands for the Refuge on August 15, 1967, and Arapaho NWR was established on September 26, 1967.

Significant issues addressed in this Draft CCP/EA include: Refuge establishment and history (Refuge purposes, water rights, and land acquisition); public uses (hunting, fishing, wildlife observation and photography, environmental education and interpretation, and other wildlife-compatible public uses); habitat management (diversification, restoration, grazing, prescribed fire, water management, weed control); wildlife and fisheries management (large ungulate herbivory, hunting and fishing pressure, habitat restoration and protection); species of concern (protection, research); partnerships and stakeholder involvement (importance, purposes); and Refuge management (staffing, equipment, infrastructure, and budgetary needs).

The Service developed four alternatives for management of the Refuge (Alternatives A, B, C & D), with the preferred alternative (Alternative D) consisting of elements of the first three alternatives. The preferred alternative seeks to ensure that wildlife comes first in Arapaho NWR by restoring, diversifying, and intensively managing the four distinct habitat types that comprise the Refuge (wetlands, wet meadows, riparian corridors, and uplands). This intensive management of habitats is expected to provide a wide variety of habitat elements that will in turn sustain a richer variety of flora and fauna through their life cycles. This proposed management will benefit not only waterfowl, but also shorebirds, neotropical migratory and upland birds, fishery resources, reptiles, amphibians, insects, and mammalian species. The preferred alternative also calls for intensive efforts to forge partnerships to attain Refuge goals as well as to promote wildlife-dependent public uses at the Refuge and throughout the North Park region of Colorado. The six priority wildlife-dependent public uses will continue to be supported and in some cases they will be expanded throughout the Refuge under the preferred alternative. This alternative will also strengthen the close working relationship in existence between the Service, the local community, conservation organizations, the Colorado Division of Wildlife, and other State and Federal agencies. The preferred alternative is also expected to increase the amount of visitation of wildlife enthusiasts and wildlife-dependent recreationists to North Park, thus supporting the local economy while preserving wildlife resources for future generations.

The Service is seeking your comments regarding this draft CCP/EA that outlines the way in which Arapaho NWR will be managed for the next 15 years. Please provide us with your comments on or before September 12, 2003. Send your comments to Ann Timberman, Refuge Manager, or to Bernardo Garza, Planning Team Leader, to the addresses listed above.

Dated: July 25, 2003.
John A. Blankenship,
Deputy Regional Director, U.S. Fish and Wildlife Service, Lakewood, Colorado.

[FR Doc. 03-20570 Filed 8-12-03; 8:45 am]

BILLING CODE 4310-55-P